FEDERAL COMMUNICATIONS COMMISSION

Notice of Public Information Collection Being Reviewed by the Federal Communications Commission for Extension Under Delegated Authority, Comments Requested

January 28, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a valid OMB control number.

DATES: Persons wishing to comments on this information collection should submit comments on or before April 5, 2010. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Judith B. Herman, Federal Communications Commission (FCC). To submit your PRA comments by e-mail send them to: PRA@fcc.gov. To view a copy of this information collection request (ICR) submitted to OMB: (1) Go to web page: http://www.reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the FCC list appears, look for the title of this ICR (or its OMB Control Number, if there is one) and then click on the ICR.

FOR FURTHER INFORMATION CONTACT: Judith B. Herman, OMD, 202-418-0214. For additional information about the information collection(s) send an e-mail to PRA@fcc.gov or contact Judith B. Herman, 202-418-0214.

SUPPLEMENTARY INFORMATION: OMB Control No: 3060-0758.

Title: Sections 5.55, 5.61, 5.75, 5.85 and 5.93, Rules for the Experimental Radio Service, Part 5, ET Docket No. 96-256.

Form No.: N/A.

Type of Review: Extension of a currently approved collection.

Respondents: Individuals or households, business or other for-profit, not-for-profit institutions, and state, local or tribal government.

Number of Respondents: 428 respondents; 4,524 responses.

Estimated Time Per Response: .25 - 2.5 hours.

Frequency of Response: On occasion and one-time reporting requirements and third party disclosure requirements.

Obligation to Respond: Required to obtain or retain benefits. Statutory authority for this information collection is contained in 47 U.S.C. sections 154(i), 303(c), 303(f), 303(g) and 303(r).

Total Annual Burden: 681 hours.

Privacy Act Impact Assessment: Yes.

Nature and Extent of Confidentiality: The Experimental Licensing System database is publicly accessible and in general, respondents do not have any assurances of confidentiality. However, applicants may request that certain portions of their application be kept confidential. In these instances, the Commission established rules in 47 CFR 0.459 regarding how to file such requests.

Need and Uses: The Commission is submitting this expiring information collection to the Office of Management and Budget at the end of this 60 day comment period in order to obtain the full three year clearance from them. There is no change in the reporting and/or third party disclosure requirements. There are no changes to the Commission's burden estimates.

Section 5.55(c) requires that each application for experimental radio authorization shall be specific and complete with regard to: station location, proposed equipment, power, antenna height, and operating frequency; and other information required by the application form and rules.

Section 5.61(c) requires that an application for experimental special temporary authority shall contain name, address, phone number of the applicant, description of why the STA is needed, description of the operation to be conducted and its purpose, time and dates of proposed operation, classes of station and call sign, description of the location, equipment to be used, frequency desired, power desired, and antenna height information.

Section 5.75 requires that if a blanket experimental radio license is granted licensees are required to notify the Commission of specific details of each individual experiment. Specific details should include location, number of base and mobile units, power, emission designator, and any other pertinent technical information not specified by the blanket license.

Section 5.85(d) when applicants are using public safety frequencies to perform experiments of a public safety nature, the license may be conditioned to require coordination between the experimental licensee and appropriate frequency coordinator and/or all public safety licensees in its area of operation.

Section 5.85(e) states that the Commission may at its discretion condition any grant of an experimental license or special temporary authority (STA) on the requirement that before commencing operation, the new licensee must coordinate its proposed facility with other licensees that may receive interference as a result of the new licensee's operations; and

Section 5.93(b) unless otherwise stated in the instrument of authorization licenses granted for the purpose of limited market studies require the licensee to inform anyone participating in the experiment that the service or device is granted under an experimental authorization and is strictly temporary.

Federal Communications Commission.
Marlene H. Dortch,
Secretary, Office of the Secretary, Office of Managing Director.

[FR Doc. 2010-2227 Filed 2-2-10; 8:45 am]

BILLING CODE 6712-01-S